DEPARTMENT OF HEALTH AND HUMAN SERVICES

Centers for Disease Control and Prevention

Notice of Public Meeting

The Centers for Disease Control and Prevention (CDC), Food and Drug Administration (FDA), and National Institutes of Health (NIH) announce a public meeting to obtain public comment on “A Public Health Action Plan to Combat Antimicrobial Resistance (Part I: Domestic Issues)”.

Time and Date: 12-1:30 p.m. EST, February 3, 2010.

Place: Hyatt Regency Bethesda, 7400 Wisconsin Avenue, Bethesda, Maryland 20814 (One Bethesda Metro Center).

Status: Open to the public, limited only by the space available. The meeting room accommodates approximately 200 people.

Purpose: The purpose of the meeting is to present the annual report of progress by Federal agencies in accomplishing activities outlined in “A Public Health Action Plan to Combat Antimicrobial Resistance (Part I: Domestic Issues)” and obtain comments from the public regarding the annual report. “The Action Plan” serves as a blueprint for activities of Federal agencies to address the issue of antimicrobial resistance. The focus of the plan is on domestic issues. A copy of the plan and annual report can be found at http://www.cdc.gov/drugresistance/actionplan/index.htm.

Matters to be Discussed: The agenda will consist of welcome and introductory comments, executive summary (including a progress report on revising the Action Plan) and brief reports in each of four focus areas: Surveillance, Prevention and Control, Research, and Product Development. A general discussion will follow the brief reports.

Comments and suggestions from the public for the Federal agencies related to each of the focus areas will be taken under advisement by the Antimicrobial Resistance Interagency Task Force. The agenda does not include development of consensus positions, guidelines, or discussions or endorsement of specific commercial products.

Limited time will be available for oral questions, comments and suggestions from the public. Depending on the number of individuals wishing to comment, a time limit of three minutes per individual may be imposed. In the interest of time, visual aids will not be permitted, although written material may be submitted for subsequent review by the Task Force. Persons who anticipate attending the meeting are asked to send written notification to the contact person below by January 28, 2010. Notification information should include name, organization (if applicable), address, phone number, fax number, and e-mail address.

Written comments and suggestions from the public are also encouraged and may be submitted to the contact person or email listed below but must be submitted for consideration no later than March 31, 2010.

Agenda items are subject to change as priorities dictate.

Contact Person for More Information: Marsha A. Jones, Office of Antimicrobial Resistance, National Center for Emerging and Zoonotic Infectious Diseases (proposed), Centers for Disease Control and Prevention, 1600 Clifton Road, NE., Mailstop A-07, Atlanta, Georgia 30333; telephone: 404-639-4052; fax 404-718-2147; e-mail aractionplan@cdc.gov.

SUPPLEMENTARY INFORMATION: “The Public Health Action Plan to Combat Antimicrobial Resistance” (Action Plan) was developed by the Interagency Task Force on Antimicrobial Resistance. The Task Force, created in 1999, is co-chaired by the Centers for Disease Control and Prevention (CDC), the Food and Drug Administration (FDA), and the National Institutes of Health (NIH). Other Federal agencies that are members of the Task Force include the Agency for Healthcare Research and Quality (AHRQ), Centers for Medicare and Medicaid Services (CMS), the Health Resources and Services Administration (HRSA), the Department of Agriculture (USDA), the Department of Defense (DoD), the Department of Veterans Affairs (VA), and the Environmental Protection Agency (EPA).

The Action Plan reflects a broad-based consensus of Federal agencies on actions needed to address antimicrobial resistance. Input from State and local health agencies, universities, professional organizations, pharmaceutical companies, health care delivery organizations, agricultural producers, consumer groups, and other members of the public was important in developing the plan. While some actions are already underway, complete implementation of this plan will require close collaboration with all of these partners, which is a major objective of this process.

The 2001 Action Plan is under revision and is expected to be completed in 2010. Upon completion, the revised Action Plan will be available for public comment.

Dated: January 20, 2010.
Tanja Popovic,
Chief Science Officer, Centers for Disease Control and Prevention.

[FR Doc. 2010-1570 Filed 1-26-10; 8:45 am]

BILLING CODE 4163-18-P